DEPARTMENT OF TRANSPORTATION

Federal Aviation Administration

14 CFR Part 39

[Docket No. FAA-2006-25390; Directorate Identifier 2005-NM-224-AD]

RIN 2120-AA64

Airworthiness Directives; Boeing Model 767 Airplanes

AGENCY: Federal Aviation Administration (FAA), Department of Transportation (DOT).

ACTION: Supplemental notice of proposed rulemaking (NPRM); reopening of comment period.

SUMMARY: The FAA is revising an earlier proposed airworthiness directive (AD) for certain Boeing Model 767 airplanes. The original NPRM would have required repetitive inspections for cracking of the wing skin, and related investigative/corrective actions if necessary. The original NPRM resulted from reports of cracks found in the lower wing skin originating at the forward tension bolt holes of the aft pitch load fitting. This action revises the original NPRM by revising certain compliance times. We are proposing this supplemental NPRM to detect and correct cracking in the lower wing skin for the forward tension bolt holes at the aft pitch load fitting, which could result in a fuel leak and reduced structural integrity of the airplane.

DATES: We must receive comments on this supplemental NPRM by June 17, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Boeing Commercial Airplanes, P.O. Box 3707, Seattle, Washington 98124-2207.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Tamara Anderson, Aerospace Engineer, Airframe Branch, ANM-120S, FAA, Seattle Aircraft Certification Office, 1601 Lind Avenue, SW., Renton, Washington 98055-4056; telephone (425) 917-6421; fax (425) 917-6590.

SUPPLEMENTARY INFORMATION:

Comments Invited

We invite you to submit any relevant written data, views, or arguments regarding this supplemental NPRM. Send your comments to an address listed in the ADDRESSES section. Include the docket number “Docket No. FAA-2006-25390; Directorate Identifier 2005-NM-224-AD” at the beginning of your comments. We specifically invite comments on the overall regulatory, economic, environmental, and energy aspects of this supplemental NPRM. We will consider all comments received by the closing date and may amend this supplemental NPRM in light of those comments.

We will post all comments we receive, without change, to http://www.regulations.gov, including any personal information you provide. We will also post a report summarizing each substantive verbal contact we receive about this proposed AD.

Discussion

We proposed to amend 14 CFR part 39 with a notice of proposed rulemaking (NPRM) for an AD (the “original NPRM”) for certain Boeing Model 767 airplanes. The original NPRM was published in the Federal Register on July 19, 2006 (71 FR 40948). The original NPRM proposed to require repetitive inspections for cracking of the wing skin, and related investigative/corrective actions if necessary.

Actions Since Original NPRM Was Issued

Since we issued the original NPRM, Boeing has issued Service Bulletin 767-57A0097, Revision 1, dated October 18, 2007. The procedures in Revision 1 are essentially the same as those in Boeing Alert Service Bulletin 767-57A0097, dated September 29, 2005, which we referred to as the appropriate source of service information for accomplishing the actions proposed in the original NPRM. However, Revision 1 clarifies the compliance times to add a flight-hour component. The flight-hour times were inadvertently omitted from the original release of the service bulletin. Flight-hour compliance times take into account those airplanes that have long flights. We have revised this supplemental NPRM to include the clarified compliance times.

We have also added paragraph (n) to the supplemental NPRM to give credit for actions done before the effective date of this AD in accordance with Boeing Alert Service Bulletin 767-57A0097, dated September 29, 2005.

Comments

We provided the public the opportunity to participate in the development of this AD. We have considered the comments received.

Requests To Clarify Thresholds for Internal Inspections of the Wing Skin in Paragraph (g) of the Original NPRM

UPS and Japan Airlines (JAL) request that we clarify the thresholds for the internal inspections of the wing skin in paragraph (g) of the original NPRM. UPS asks that the statement “prior to [as of] the effective date of this AD” be removed from paragraphs (g)(1) and (g)(2) of the original NPRM. UPS states that the current phrases, “prior to the effective date of this AD,” and “as of the effective date of this AD” would require operators of airplanes on which one of the strut improvement program (SIP) service bulletins (Boeing Service Bulletins 767-54-0080, Revision 1, dated May 9, 2002; 767-54-0081, dated July 29, 1999, Revision 1, dated February 7, 2002; and 767-54-0082, dated October 28, 1999, Revision 1, dated November 4, 2004, or Revision 3, dated September 20, 2007) is accomplished after the effective date of the proposed AD to be inspected at 20,000 total aircraft cycles rather than 16,500 cycles from the accomplishment of the SIP service bulletin. UPS concludes that this is not the intent of Boeing Alert Service Bulletin 767-57A0097. Furthermore, UPS does not see any relevant reason for use of this statement in paragraph (g)(1) or (g)(2) of the original NPRM. JAL states that doing the SIP service bulletins is equivalent to performing the bolt open hole inspection in Part 2 of Boeing Alert Service Bulletin 767-57A0097.

We agree with the commenters that the wording in the original NPRM does not give credit for work done in accordance with the SIP service bulletins after the effective date of the proposed AD. We have revised paragraphs (g)(1) and (g)(2) of this supplemental NPRM to clarify this point.

Request To Change Inspection Threshold in Paragraph (h) of the Original NPRM

UPS requests that we change the inspection threshold in paragraph (h) of the original NPRM so that it is based on the preceding open-hole high frequency eddy current (HFEC) inspection method used. In that case, the threshold for the paragraph (h) inspections would be 16,500 flight cycles, rather than 3,000 flight cycles, from the last accomplishment of paragraph (g) of the NPRM. UPS agrees with the repetitive interval of 3,000 flight cycles as currently stated in paragraph (h) of the original NPRM.

We do not agree with the commenter that the threshold should be based on the preceding open-hole HFEC inspection method. The external inspection specified in Part 1 of the Accomplishment Instructions of Boeing Service Bulletin 767-57A0097, Revision 1, dated October 18, 2007, will miss cracks that are hidden by the fitting until the crack grows beyond the fitting. In particular, the Part 1 inspection will not detect large cracks growing aft that are hidden by the fitting. Also, there is a preload in the skin due to “clamp-up stress” from the bolts. These clamp-up stresses add to uncertainty in the analysis. The 3,000-flight-cycle threshold will allow for additional opportunities to detect possible cracks once they grow beyond the fitting. In addition, this rationale is the intent of the manufacturer, and this intent has been clarified in Revision 1 of the service bulletin. We have not changed this supplemental NPRM in this regard.

Request To Clarify the Airplane Effectivity in Paragraph (h) of the Original NPRM

UPS requests that we revise the following statement from paragraph (h) of the original NPRM: “For all airplanes, regardless of whether Boeing Service Bulletins 767-54-0080, Revision 1, dated May 9, 2002; 767-54-0081, dated July 29, 1999; or 767-54-0082, dated October 28, 1999, have been accomplished * * *”. UPS says that this statement is both confusing and unnecessary and recommends that we introduce the paragraph by simply saying, “For all airplanes: * * *”.

We agree that the cited text, beginning with the word “regardless,” is unnecessary, and that revising the paragraph effectivity to state, “For all airplanes: * * *” is more clear. We have revised paragraph (h) of this supplemental NPRM accordingly.

Requests To Clarify Intent of Repair Specified in Paragraph (i) of the Original NPRM

Boeing and JAL request that we change paragraph (i) of the original NPRM to make it more clear that:

• A freeze plug repair is not feasible to meet the requirements of paragraph (i) of the original NPRM. Boeing explains that although cracks found during the inspections required by paragraph (g) of the original NPRM can be repaired using a freeze plug as specified in paragraph (i) of the original NPRM, cracks found during the inspections required by paragraphs (f) and (h) of the original NPRM are too large to be repaired using freeze plugs.

• A freeze plug is not eventually required. Boeing explains, however, that the wording in paragraph (i) of the original NPRM implies it in the phrase, “* * * until the freeze plug repair specified in paragraph (i) of this AD has been accomplished on both wings.”

• Only cracking that cannot be repaired by over-sizing the fastener hole to the limit provided in the service bulletin must be repaired using the freeze plug method. JAL requests that we add specific wording to paragraph (i) of the original NPRM to make this clear.

We agree with the commenters' requests. Freeze plug repairs might not be necessary on both wings. It might be possible to remove small crack indications in accordance with Part 2 of the Accomplishment Instructions of Boeing Service Bulletin 767-57A0097, Revision 1, dated October 18, 2007. We have revised paragraph (i) of this supplemental NPRM and added a new paragraph (j) to this supplemental NPRM to clarify the specified points, and we have re-identified the subsequent paragraphs.

Request to Revise “Differences * * *” Section

Boeing requests that we revise the fourth paragraph of the “Differences between the Proposed AD and the ASB” (alert service bulletin) section. Boeing specifically requests that we revise the sentence “This proposed AD would require that any cracking found outside the limits of Part 1 of the ASB” to instead refer to cracking outside the limits of Part 2 of the ASB. Boeing states that the NPRM incorrectly refers to Part 1.

We agree with Boeing that the reference is incorrect. However Boeing Service Bulletin 767-57A0097, Revision 1, dated October 18, 2007, clarifies the repair actions that should be taken. In addition, we have not retained in the supplemental NPRM the fourth paragraph in the section titled “Differences between the Proposed AD and the ASB” from the original NPRM, and therefore, we have not revised this supplemental NPRM in this regard.

Requests Regarding Service Information

The Modification and Replacement Parts Association (MARPA) requests that the service documents deemed essential to accomplishing the proposed action be: (1) Incorporated by reference into the regulatory instrument (the Federal Register), and (2) published in the docket management system (DMS). MARPA justifies the first request by stating that it is concerned that failure to incorporate essential service information could result in a court decision invalidating the AD. MARPA justifies the second request by stating that publishing the service information in the DMS would make those documents available to a new class of individuals that has emerged since the majority of aircraft maintenance is now performed by specialty shops instead of aircraft owners and operators. Owners and operators are provided with service information by the manufacturer, but specialty shops are not. MARPA adds that publishing electronically makes archaic the reason for incorporating by reference—to keep from expanding the Federal Register needlessly by publishing documents already in the hands of the affected individuals.

In regard to the commenter's request that service documents be made available to the public by publication in the Federal Register, we agree that incorporation by reference was authorized to reduce the volume of material published in the Federal Register and the Code of Federal Regulations. However, as specified in the Federal Register Document Drafting Handbook, the Director of the Office of the Federal Register (OFR) decides when an agency may incorporate material by reference. As the commenter is aware, the OFR files documents for public inspection on the workday before the date of publication of the rule at its office in Washington, D.C. As stated in the Federal Register Document Drafting Handbook, when documents are filed for public inspection, anyone may inspect filed documents during the OFR's hours of business. Further questions regarding publication of documents in the Federal Register or incorporation by reference should be directed to the OFR.

In regard to the commenter's request to post service bulletins on the Department of Transportation's (DOT's) DMS, effective September 30, 2007, DOT's DMS was replaced by the Federal Docket Management System (FDMS). We are currently in the process of reviewing issues surrounding the posting of service bulletins on the FDMS as part of an AD docket. Once we have thoroughly examined all aspects of this issue and have made a final determination, we will consider whether our current practice needs to be revised.

No change to this supplemental NPRM is necessary in response to this comment.

Explanation of Change to Paragraph (h) of the Original NPRM

Paragraph (h) of the original NPRM was one sentence. We have retained the same information, but divided it into paragraph (h), paragraph (h)(1), and paragraph (h)(2) to make the information more clear.

FAA's Determination and Proposed Requirements of the Supplemental NPRM

The change discussed above, in the section titled “Actions Since Original NPRM was Issued,” expands the scope of the original NPRM; therefore, we have determined that it is necessary to reopen the comment period to provide additional opportunity for public comment on this supplemental NPRM.

Differences Between This Supplemental NPRM and Boeing Service Bulletin 767-57A0097, Revision 1

The service bulletin specifies to contact the manufacturer for instructions on how to repair certain conditions, but this proposed AD would require repairing those conditions in one of the following ways:

• Using a method that we approve; or

• Using data that meet the certification basis of the airplane, and that have been approved by an Authorized Representative for the Boeing Commercial Airplanes Delegation Option Authorization Organization whom we have authorized to make those findings.

Operators should also note that, although the Accomplishment Instructions of the service bulletin describe procedures for submitting a report of damage found, this proposed AD would not require that action.

Costs of Compliance

There are about 918 airplanes of the affected design in the worldwide fleet, and about 387 airplanes on the U.S. Registry. The following table provides the estimated costs, at an average labor rate of $80 per hour, for U.S. operators to comply with this supplemental NPRM.

Estimated Costs
Action | Work hours | Parts | Cost per airplane | Fleet cost
Repetitive inspections, per inspection cycle (Part 1) | 8 | None | $640, per inspection cycle | $247,680.
Inspection, rework, and bolt installation (Part 2) | 8 | Between $303 and $12,716 | Between $943 and $13,356 | Between $364,941, and $5,168,772.
Repetitive inspections for certain airplanes (Part 4) | 4 | None | $320, per inspection cycle | $123,840, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this supplemental NPRM and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Boeing: Docket No. FAA-2006-25390; Directorate Identifier 2005-NM-224-AD.

Comments Due Date

(a) The FAA must receive comments on this AD action by June 17, 2008.

Affected ADs

(b) None.

Applicability

(c) This AD applies to Boeing Model 767-200, -300, -300F, and -400ER series airplanes, certificated in any category; as identified in Boeing Service Bulletin 767-57A0097, Revision 1, dated October 18, 2007.

Unsafe Condition

(d) This AD results from reports of cracks found in the lower wing skin originating at the forward tension bolt holes of the aft pitch load fitting. We are issuing this AD to detect and correct cracking in the lower wing skin for the forward tension bolt holes at the aft pitch load fitting, which could result in a fuel leak and reduced structural integrity of the airplane.

Compliance

(e) You are responsible for having the actions required by this AD performed within the compliance times specified, unless the actions have already been done.

External Inspections of the Wing Skin

(f) For airplanes specified as Group 1, Configuration 1, 2, 3, or 6; Group 2, Configuration 1, 2, 3, or 6; and Group 3, Configuration 1 or 3, as specified in Boeing Service Bulletin 767-57A0097, Revision 1, dated October 18, 2007: At the later of the times specified in paragraph (f)(1) or (f)(2) of this AD, perform the detailed inspection and the external high frequency eddy current (HFEC) or dye penetrant inspections for cracking as specified in Part 1 of the Accomplishment Instructions of Boeing Service Bulletin 767-57A0097, Revision 1, dated October 18, 2007. Repeat at intervals not to exceed 3,000 flight cycles or 12,000 flight hours, whichever occurs first, until the actions required by paragraph (g) or (j) of this AD are accomplished.

(1) Prior to the accumulation of 10,000 total flight cycles or 30,000 total flight hours, whichever occurs first.

(2) Within 3,000 flight cycles or 12,000 flight hours after the effective date of this AD, whichever occurs first.

Internal Inspections of the Wing Skin

(g) For airplanes specified in paragraphs (g)(1) and (g)(2) of this AD: Perform the bolt open-hole inspections for cracking in accordance with Part 2 of the Accomplishment Instructions of Boeing Service Bulletin 767-57A0097, Revision 1, dated October 18, 2007, at the times specified in paragraphs (g)(1) or (g)(2) of this AD, as applicable, until the requirement of paragraphs (h) or (j)(1) of this AD are accomplished. Doing the actions in this paragraph terminates the requirements of paragraph (f) of this AD.

(1) For airplanes on which the modifications of the nacelle strut and wing structure specified in any service bulletin listed in Table 1 of this AD have been done: Do the inspection at the later time specified in paragraph (g)(1)(i) and (g)(1)(ii) of this AD. Repeat the inspections at intervals not to exceed 16,500 flight cycles or 65,000 flight hours, whichever occurs first.

(i) Within 16,500 flight cycles or 65,000 flight hours, whichever occurs earlier, after accomplishment of a service bulletin identified in Table 1 of this AD.

(ii) Within 3,000 flight cycles or 12,000 flight hours after the effective date of this AD, whichever occurs first.

Table 1.—Threshold Service Bulletins
Boeing Service Bulletin | Revision | Dated
767-54-0080 | Original | October 7, 1999.
767-54-0080 | 1 | May 9, 2002.
767-54-0081 | Original | July 29, 1999.
767-54-0081 | 1 | February 7, 2002.
767-54-0082 | Original | October 28, 1999.
767-54-0082 | 1 | November 4, 2004.
767-54-0082 | 3 | September 20, 2007.

(2) For airplanes on which the modifications of the nacelle strut and wing structure specified in any service bulletin listed in Table 1 of this AD have not been done: Do the inspection at the later of the times specified in paragraph (g)(2)(i) and (g)(2)(ii) of this AD. Repeat the inspections at intervals not to exceed 16,500 flight cycles or 65,000 flight hours, whichever occurs first.

(i) Before the accumulation of 20,000 total flight cycles or 60,000 total flight hours, whichever occurs earlier.

(ii) Within 72 months after the effective date of this AD.

Acceptable Method of Compliance With Paragraph (g) of this AD

(h) For all airplanes: Doing the actions in both paragraphs (h)(1) and (h)(2) of this AD is an acceptable method of compliance for the repetitive inspection requirements of paragraph (g) of this AD after the initial paragraph (g) inspection is accomplished.

(1) Accomplishing the inspections specified in Part 1 of the Accomplishment Instructions of Boeing Service Bulletin 767-57A0097, Revision 1, dated October 18, 2007, within 3,000 flight cycles or 12,000 flight hours, whichever occurs first, after the accomplishment of the most recent inspection done in accordance with paragraph (g) of this AD (Part 2 of the Accomplishment Instructions of Boeing Service Bulletin 767-57A0097, Revision 1, dated October 18, 2007).

(2) Repeating the inspections specified in Part 1 of the Accomplishment Instructions of Boeing Service Bulletin 767-57A0097, Revision 1, dated October 18, 2007, at intervals not to exceed 3,000 flight cycles or 12,000 flight hours, whichever occurs first.

Repair of Cracking

(i) If cracking is found during any inspection required by paragraph (f) or (h) of this AD: Before further flight, repair in accordance with the procedures specified in paragraph (o) of this AD.

(j) If cracking is found during any inspection required by paragraph (g) of this AD: Before further flight, oversize the fastener hole in accordance with Part 2, of the Accomplishment Instructions of Boeing Service Bulletin 767-57A0097, Revision 1, dated October 18, 2007, except as provided by paragraphs (j)(1) and (j)(2) of this AD.

(1) If any cracking cannot be removed by oversizing the fastener hole in accordance with Part 2 of the Accomplishment Instructions of Boeing Service Bulletin 767-57A0097, Revision 1, dated October 18, 2007, before further flight, accomplish the freeze plug repair in accordance with Part 3 of the Accomplishment Instructions of Boeing Service Bulletin 767-57A0097, Revision 1, dated October 18, 2007, except as provided by paragraph (j)(2) of this AD. Accomplishing the freeze plug repair ends the repetitive inspections required by paragraphs (f) and (g) of this AD for the repaired wing only.

(2) If any cracking is outside the limits specified for the freeze plug repair in Part 3 of the Accomplishment Instructions of Boeing Service Bulletin 767-57A0097, Revision 1, dated October 18, 2007, before further flight, repair in accordance with the procedures specified in paragraph (o) of this AD.

Repetitive Inspections Required After Freeze Plug Repair

(k) For airplanes on which of the requirements of paragraph (j)(1) of this AD have been accomplished, perform the repetitive inspections specified in paragraphs (k)(1) and (k)(2) of this AD at the times specified.

(1) At the later time in paragraph (k)(1)(i) or (k)(1)(ii) of this AD: Accomplish the external inspections specified in Part 1 of the Accomplishment Instructions of Boeing Service Bulletin 767-57A0097, Revision 1, dated October 18, 2007. If any cracking is found during any inspection required by this paragraph, before further flight, repair in accordance with the procedures specified in paragraph (o) of this AD. Repeat the external inspections at intervals not to exceed 3,000 flight cycles or 12,000 flight hours, whichever occurs earlier.

(i) Prior to the accumulation of 37,500 total flight cycles or 90,000 total flight hours, whichever occurs earlier.

(ii) Within 18 months after accomplishment of the freeze plug repair specified in Part 3 of the Accomplishment Instructions of Boeing Service Bulletin 767-57A0097, Revision 1, dated October 18, 2007.

(2) At the later of the times specified in paragraph (k)(2)(i) or (k)(2)(ii) of this AD: Perform an internal HFEC for cracking, in accordance with Part 4 of the Accomplishment Instructions of Boeing Service Bulletin 767-57A0097, Revision 1, dated October 18, 2007. If any cracking is found during any inspection required by this paragraph, before further flight, repair in accordance with the procedures specified in paragraph (o) of this AD. Repeat the inspections at intervals not to exceed 12,000 flight cycles or 48,000 flight hours, whichever occurs earlier.

(i) Prior to the accumulation of 37,500 total flight cycles or 90,000 total flight hours, whichever occurs earlier.

(ii) Within 72 months after accomplishment of the freeze plug repair specified in Part 3 of the Accomplishment Instructions of Boeing Service Bulletin 767-57A0097, Revision 1, dated October 18, 2007.

Repair of Certain Cracking

(l) If any cracking is found during any inspection required by this AD, and Boeing Service Bulletin 767-57A0097, Revision 1, dated October 18, 2007, specifies to contact Boeing for appropriate action: Before further flight, repair the cracking using a method approved in accordance with the procedures specified in paragraph (o) of this AD.

No Reporting Requirement

(m) Although Boeing Service Bulletin 767-57A0097, Revision 1, dated October 18, 2007, specifies to submit certain information to the manufacturer, this AD does not include that requirement.

Credit for Actions Accomplished Previously

(n) Actions done before the effective date of this AD in accordance with Boeing Alert Service Bulletin 767-57A0097, dated September 29, 2005, are acceptable for compliance with the corresponding requirements of this AD.

Alternative Methods of Compliance (AMOCs)

(o)(1) The Manager, Seattle ACO, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane, and the approval must specifically refer to this AD.

Issued in Renton, Washington, on May 16, 2008.
Ali Bahrami,
Manager, Transport Airplane Directorate, Aircraft Certification Service.

[FR Doc. E8-11591 Filed 5-22-08; 8:45 am]

BILLING CODE 4910-13-P